FEDERAL ELECTION COMMISSION

Sunshine Act Meeting Notice

AGENCY: Federal Election Commission.

DATE AND TIME: Monday, February 13, 2012 at 2 p.m.

PLACE: 999 E Street NW., Washington, DC.

STATUS: This Meeting Will Be Closed to the Public.

ITEMS TO BE DISCUSSED:

Investigatory records compiled for law enforcement purposes, or information which if written would be contained in such records

Information the premature disclosure of which would be likely to have a considerable adverse effect on the implementation of a proposed Commission action.

Internal personnel rules and procedures or matters affecting a particular employee.

* * * * *

PERSON TO CONTACT FOR INFORMATION: Judith Ingram, Press Officer, Telephone: (202) 694-1220.

Shawn Woodhead Werth,
Secretary and Clerk of the Commission.

[FR Doc. 2012-3532 Filed 2-10-12; 4:15 pm]

BILLING CODE 6715-01-P